DEPARTMENT OF ENERGY

Federal Energy Regulatory Commission

[Docket No. ER01-698-000, et al.]

Cinergy Services, Inc., et al.; Electric Rate and Corporate Regulation Filings

December 22, 2000

Take notice that the following filings have been made with the Commission:

1. Cinergy Services, Inc.

[Docket No. ER01-698-000]

Take notice that on December 18, 2000, Cinergy Services, Inc. (Provider), tendered for filing a Firm Point-To-Point Service Agreement under Cinergy's Open Access Transmission Service Tariff (OATT) entered into between Provider and Cinergy Services, Inc., (Customer).

This service agreement has a yearly firm transmission service with Louisville Gas & Electric Company via the Gibson Unit No. 5 Generating Station.

Provider and Customer are requesting an effective date of January 1, 2001.

Comment date: January 9, 2001, in accordance with Standard Paragraph E at the end of this notice.

2. California Power Exchange Corporation

[Docket No. ER01-719-000]

Take notice that on December 18, 2000, the California Power Exchange Corporation (CalPX), tendered for filing its proposed Tariff Amendment No. 21, consisting of a change of Section 3.5 of Schedule 6 of its Tariff. The sole purpose of Tariff Amendment No. 21 is to track the changes proposed by the California Independent System Operator Corporation (CAISO) in its unbundled Grid Management Charge (GMC) filing in the docket ER01-313-000. CalPX proposes to use the same allocation methodology for the GMC as that proposed by the CAISO.

CalPX requests waiver of the Commission's Regulations to permit an effective date of January 1, 2001 or such other date as the Commission permits CAISO's filing in docket No. ER01-313-000 to become effective.

CalPX states that it has served this filing on the California Public Utilities Commission and on its participants and has also posted this filing on its website (www.calpx.com).

Comment date: January 9, 2001, in accordance with Standard Paragraph E at the end of this notice.

3. MidAmerican Energy Company

[Docket No. ER01-716-000]

Take notice that on December 19, 2000, MidAmerican Energy Company (MidAmerican), 666 Grand Ave, Des Moines, Iowa 50309, tendered for filing with the Commission a Termination of Assignment of Neal 3 Transmission Assignments for Capacity Schedule entered into by MidAmerican and Alliant Energy dated October 27, 2000.

MidAmerican requests an effective date of November 1, 2000 for the Termination and seeks a waiver of the Commission's notice requirement. MidAmerican has served a copy of the filing on the Iowa Utilities Board, the Illinois Commerce Commission and the South Dakota Public Utilities Commission.

Comment date: January 10, 2001, in accordance with Standard Paragraph E at the end of this notice.

4. Commonwealth Edison Company

[Docket No. ER01-715-000]

Take notice that on December 19, 2000, Commonwealth Edison Company (ComEd), tendered for filing a Firm Transmission Service Agreement (Agreement) supplemented by Network Upgrade Agreement with Wisconsin Electric Power Company (WEP), and two firm Agreements with Commonwealth Edison Company, in its wholesale merchant function (WMD) under the terms of ComEd's Open Access Transmission Tariff (OATT).

ComEd requests an effective date of February 1, 2001, for the Agreement with WEP and an effective date of February 1, 2001, for the corresponding Network Upgrade Agreement with WEP; and an effective date of January 1, 2001 and January 8, 2001 for the Agreements with WMD, and accordingly, seeks waiver of the Commission's notice requirements.

Comment date: January 10, 2001, in accordance with Standard Paragraph E at the end of this notice.

5. Wisconsin Public Service Corporation

[Docket No. ER01-701-000]

Take notice that on December 18, 2000, Wisconsin Public Service Corporation (WPSC or the Company), tendered for filing a modified rate schedule for its service to the City of Marshfield, Wisconsin (Marshfield). The purpose of this filing is to include updated generation capability ratings for the combustion turbine unit that supplies power to Marshfield.

WPSC requests a January 1, 2001 effective date.

Copies of the filing were served upon Marshfield, the Public Service Commission of Wisconsin and the Michigan Public Service Commission.

Comment date: January 10, 2001, in accordance with Standard Paragraph E at the end of this notice.

6. Consumers Energy Company

[Docket No. ER01-714-000]

Take notice that on December 19, 2000, Consumers Energy Company (Consumers), tendered for filing a Service Agreement with Northern Indiana Public Service Company, (Customer) under Consumers' FERC Electric Tariff No. 9 for Market Based Sales.

Consumers requested that the Agreement be allowed to become effective December 19, 2000.

Comment date: January 10, 2001, in accordance with Standard Paragraph E at the end of this notice.

7. Tampa Electric Company

[Docket No. ER01-713-000]

Take notice that on December 19, 2000, Tampa Electric Company (Tampa Electric), tendered for filing a service agreement with Enron Power Marketing, Inc. (Enron) under Tampa Electric's market-based sales tariff.

Tampa Electric proposes that the service agreement be made effective on December 1, 2000, and gives notice of its termination as of January 1, 2001.

Copies of the filing have been served on Enron and the Florida Public Service Commission.

Comment date: January 10, 2001, in accordance with Standard Paragraph E at the end of this notice.

8. PECO Energy Company

[Docket No. ER01-711-000]

Take notice that on December 18, 2000, PECO Energy Company (PECO), tendered for filing under Section 205 of the Federal Power Act, 16 U.S.C. S 792 et seq., an Agreement dated December 18, 2000 with Calpine Corporation. (CALPINE) under PECO's FERC Electric Tariff Original Volume No. 1 (Tariff).

PECO requests an effective date of December 18, 2000 for the Agreement.

PECO states that copies of this filing have been supplied to Calpine Corporation and to the Pennsylvania Public Utility Commission.

Comment date: January 10, 2001, in accordance with Standard Paragraph E at the end of this notice.

9. Consumers Energy Company

[Docket No. ER01-709-000]

Take notice that on December 19, 2000 Consumers Energy Company (Consumers), tendered for filing a Service Agreement with FirstEnergy Corp., (Customer) under Consumers' FERC Electric Tariff No. 9 for Market Based Sales.

Consumers requested that the Agreement be allowed to become effective December 19, 2000.

Copies of the filing were served upon the Customer and the Michigan Public Service Commission.

Comment date: January 10, 2001, in accordance with Standard Paragraph E at the end of this notice.

10. Pennsylvania Electric Company

[Docket No. ER01-707-000]

Take notice that on December 19, 2000, Pennsylvania Electric Company (doing business as GPU Energy), tendered for filing a letter agreement (Agreement) between GPU Energy and American Cooperative Services, Inc., (American Coop.). Under the Agreement, American Coop., has agreed to the operational and financial responsibilities set forth in the GPU Energy Manuals in connection with American Coop., becoming the Load Serving Entity (LSE) for the Pennsylvania Borough of East Conemaugh.

Copies of the filing were served upon American Coop., PJM and regulators in the Commonwealth of Pennsylvania.

Comment date: January 10, 2001, in accordance with Standard Paragraph E at the end of this notice.

11. Otter Tail Power Company

[Docket No. ER01-706-000]

Take notice that Otter Tail Power Company (OTP) on December 13, 2000, tendered for filing a transmission service agreement between itself and Split Rock Energy LLC. The agreement establishes Split Rock Energy LLC as a customer under OTP's transmission service tariff (FERC Electric Tariff, Original Volume No.7).

OTP respectfully requests an effective date sixty days after filing. OTP is authorized to state that Split Rock Energy LLC, joins in the requested effective date.

Copies of the filing have been served on Split Rock Energy LLC, Minnesota Public Utilities Commission, North Dakota Public Service Commission, and the South Dakota Public Utilities Commission.

Comment date: January 10, 2001, in accordance with Standard Paragraph E at the end of this notice.

12. Commonwealth Edison Company and Commonwealth Edison Company of Indiana

[Docket No. ER01-99-001]

Take notice that on December 19, 2000, Commonwealth Edison Company and Commonwealth Edison Company of Indiana, Inc. (collectively ComEd), tendered for filing revised Attachment K for ComEd's Open Access Transmission Tariff (OATT) in compliance with the Commission's December 8, 2000 Order issued in above-captioned docket. Commonwealth Edison Company, 93 FERC ¶ 61,237 (2000).

Comment date: January 10, 2001, in accordance with Standard Paragraph E at the end of this notice.

13. Carolina Power & Light Company

[Docket No. ER00-3537-002 and OA96-198-005]

Take notice that on December 19, 2000, Carolina Power & Light Company (CP&L), tendered for filing the refund report.

Copies of the filing were served upon the North Carolina Utilities Commission and the South Carolina Public Service Commission.

Comment date: January 10, 2001, in accordance with Standard Paragraph E at the end of this notice.

14. New York Independent System Operator, Inc.

[Docket No. ER97-1523-005, ER97-1523-006, OA97-470-006, ER97-4234-004 and EC99-31-001]

Take notice that on December 19, 2000, the New York Independent System Operator, Inc., tendered for filing a Report on Governance Issuance in the above-captioned dockets.

A copy of this filing was served upon all parties in the above-captioned dockets.

Comment date: January 10, 2001, in accordance with Standard Paragraph E at the end of this notice.

15. Cinergy Services, Inc.

[Docket No. ER01-699-000]

Take notice that on December 18, 2000, Cinergy Services, Inc. (Provider) tendered for filing a Firm Point-To-Point Service Agreement under Cinergy's Open Access Transmission Service Tariff (OATT) entered into between Provider and Cinergy Services, Inc., (Customer).

This service agreement has a yearly firm transmission service with American Electric Power via the Zimmer Unit No. 1 Generating Station.

Provider and Customer are requesting an effective date of January 1, 2001.

Comment date: January 9, 2001, in accordance with Standard Paragraph E at the end of this notice.

16. Central Maine Power Company

[Docket No. ER01-700-000]

Take notice that on December 11, 2000, Central Maine Power Company (CMP) tendered for filing the executed Service Agreement for Local Network Transmission Service (LNSA) and the Local Network Operating Agreement (LNOA) between CMP and Champion International. The Executed LNSA and Executed LNOA replace the unexecuted agreements filed on March 30, 2000, further supplemented on April 20, 2000 and accepted for filing on May 26, 2000.

Comment date: January 9, 2001, in accordance with Standard Paragraph E at the end of this notice.

17. American Transmission Company LLC

[Docket No. ER01-702-000]

Take notice that on December 18, 2000, American Transmission Company LLC (ATCLLC), tendered for filing the Standards of Conduct for ATCLLC to be effective January 1, 2001.

Comment date: January 9, 2001, in accordance with Standard Paragraph E at the end of this notice.

18. Jersey Central Power & Light Company, Metropolitan Edison Company and Pennsylvania Electric Company

[Docket No. ER01-703-000]

Take notice that on December 18, 2000, Jersey Central Power & Light Company, Metropolitan Edison Company and Pennsylvania Electric Company (individually doing business as GPU Energy), tendered for filing a Notice of Cancellation of the Service Agreement between GPU Service, Inc. and Western Power Services, Inc., FERC Electric Tariff, Original Volume No. 1, Service Agreement No. 56.

GPU Energy requests that cancellation be effective the 14th day of February 2001.

Comment date: January 9, 2001, in accordance with Standard Paragraph E at the end of this notice.

19. Wisconsin Electric Power Company

[Docket No. ER01-710-000]

Take notice that on December 18, 2000, Wisconsin Electric Power Company (Wisconsin Electric), tendered for filing a short-term firm Transmission Service Agreement and a non-firm Transmission Service Agreement between itself and (MG&E). The Transmission Service Agreements allow MG&E to receive transmission services under Wisconsin Energy Corporation Operating Companies' FERC Electric Tariff, Volume No. 1. Wisconsin Electric requests the Commission assign these service agreements as Nos. 188 and 189 under its Tariff.

Wisconsin Electric requests an effective date of May 1, 2002, coincident with MG&E's power supply transactions. Wisconsin Electric requests waiver of the Commission's notice requirements in order to accommodate MG&E's power supply transactions.

Copies of the filing have been served on MG&E, the Public Service Commission of Wisconsin and the Michigan Public Service Commission.

Comment date: January 9, 2001, in accordance with Standard Paragraph E at the end of this notice.

20. Jersey Central Power & Light Company, Metropolitan Edison Company and Pennsylvania Electric Company

[Docket No. ER01-704-000]

Take notice that on December 18, 2000, Jersey Central Power & Light Company, Metropolitan Edison Company and Pennsylvania Electric Company (individually doing business as GPU Energy), tendered for filing a Notice of Cancellation of the Service Agreement between GPU Service Corporation and Public Service Electric and Gas Company (now PSEG Energy Resources & Trade LLC), FERC Electric Tariff, Original Volume No. 1, Service Agreement No. 9.

GPU Energy requests that cancellation be effective the 14th day of February 2001.

Comment date: January 9, 2001, in accordance with Standard Paragraph E at the end of this notice.

21. Jersey Central Power & Light Company, Metropolitan Edison Company and Pennsylvania Electric Company

[Docket No. ER01-705-000]

Take notice that on December 18, 2000, Jersey Central Power & Light Company, Metropolitan Edison Company and Pennsylvania Electric Company (individually doing business as GPU Energy), tendered for filing a Notice of Cancellation of the Service Agreement between GPU Energy and Eastern Power Distribution, Inc. (now Amerada Hess Corp.), FERC Electric Tariff, Original Volume No. 1, Service Agreement No. 75.

GPU Energy requests that cancellation be effective the 14th day of February 2001.

Comment date: January 9, 2001, in accordance with Standard Paragraph E at the end of this notice.

22. Madison Gas and Electric Company

[Docket No. ER01-708-000]

Take notice that on December 18, 2000, Madison Gas and Electric Company (MGE), tendered for filing a service agreement under MGE's Market-Based Power Sales Tariff with Southern Illinois Power Company.

MGE requests the agreement be effective on the date it was filed with the FERC.

Comment date: January 9, 2001, in accordance with Standard Paragraph E at the end of this notice.

23. Arizona Public Service Company

[Docket No. ER01-717-000]

Take notice that on December 18, 2000, Arizona Public Service Company tendered for filing Notice that effective June 29, 2000, APS' FERC Rate Schedule No. 116, effective date July 25, 1984 and filed with the Federal Energy Regulatory Commission is to be canceled.

Copies of the proposed notice of cancellation have been served upon Plains Electric Generation & Transmission, The Arizona Corporation Commission and The New Mexico Public Service Commission.

Comment date: January 9, 2001, in accordance with Standard Paragraph E at the end of this notice.

24. Indianapolis Power & Light Company

[Docket No. ER01-718-000]

Take notice that on December 18, 2000, Indianapolis Power & Light Company tendered for filing the First Amendment to the Interconnection, Operation and Maintenance Agreement between DTE Georgetown, L.L.C., and Indianapolis Power & Light Company in the above-captioned

Comment date: January 9, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 01-194 Filed 1-3-01; 8:45 am]

BILLING CODE 6717-01-P